FEDERAL COMMUNICATIONS COMMISSION

47 CFR Part 73

[MM Docket No. 02-113; FCC 02-150]

Broadcast Services; Television Stations

AGENCY: Federal Communications Commission.

ACTION: Final rule.

SUMMARY: In this document, the Commission modifies its Rules to permit the Media Bureau to deny digital television construction deadline extension requests.

DATES: Effective July 5, 2002.

FOR FURTHER INFORMATION CONTACT: Shaun Maher, Media Bureau, Office of Broadcast Licensing, Video Division, (202) 418-2324.

SUPPLEMENTARY INFORMATION: This is a synopsis of the Order (“Order”) in MM Docket No. 02-113, FCC 02-150, adopted May 16, 2002, and released May 24, 2002. The complete text of this Order is available for inspection and copying during normal business hours in the FCC Reference Center, Room CY-A257, 445 12th Street, SW., Washington, DC and may also be purchased from the Commission's copy contractor, Qualex International, Portals II, 445 12th Street SW, CY-B402, Washington, DC 20554. The Order is also available on the Internet at the Commission's website: http://www.fcc.gov.

Synopsis of Order

1. The Commission has adopted an Order modifying its rules to permit the Media Bureau delegated authority to deny digital television construction deadline extension requests.

Ordering Clauses

2. Pursuant to the authority contained in sections 1, 2(a), 4(i), 303, 307, 309, and 310 of the Communications Act of 1934, as amended, 47 U.S.C. 151, 152(a), 154(i), 303, 307, 309, and 310, and Section 202(h) of the Telecommunications Act of 1996, this Order is adopted.

List of Subjects in 47 CFR Part 73

Television.

Federal Communications Commission.
Marlene H. Dortch,
Secretary.

For the reasons set forth in the preamble, amend part 73 of title 47 of the Code of Federal Regulations as follows:

PART 73—RADIO BROADCAST SERVICES

1. The authority citation for part 73 continues to read:

Authority: 47 U.S.C. 154, 303, 334 and 336.

2. Revise § 73.624(d)(3)(iii) to read as follows:

§ 73.624 Digital television broadcast stations.

* * * * *

(d) * * *

(3) * * *

(iii) The Bureau may grant no more than two extension requests upon delegated authority. Subsequent extension requests shall be referred to the Commission. The Bureau may deny extension requests upon delegated authority.

* * * * *

[FR Doc. 02-13907 Filed 6-3-02; 8:45 am]

BILLING CODE 6712-01-P